FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202)-523-5793 or tradeanalysis@fmc.gov.

Agreement No.: 012460-001.

Title: COSCO Shipping/PIL/WHL Vessel Sharing and Slot Charter Agreement.

Parties: COSCO Shipping Lines Co., Ltd.; Pacific International Lines (PTE) Ltd.; Wan Hai Lines (Singapore) PTE Ltd.; and Wan Hai Lines Ltd.

Filing Party: Eric Jeffrey; Nixon Peabody LLP; 799 9th Street NW, Suite 500, Washington, DC 20001.

Synopsis: The amendment deletes one of the joint strings and updates the slot exchanges among the Parties.

Agreement No.: 010099-066.

Title: International Council of Containership Operators.

Parties: China COSCO Shipping Corporation Limited; CMA CGM S.A; Crowley Maritime Corp.; Evergreen Marine Corporation (Taiwan) Ltd.; Hapag-Lloyd AG, Hapag-Lloyd USA LLC, and United Arab Shipping Company Limited (acting as one party); Hyundai Merchant Marine Co., Ltd.; Maersk Line A/S; MSC Mediterranean Shipping Company S.A.; Orient Overseas Container Line Ltd.; Pacific International Lines (Pte) Ltd.; Wan Hai Lines Ltd.; Yang Ming Marine Transport Corp.; and Zim Integrated Shipping Services Ltd.

Filing Party: John Longstreth; K&L Gates LLP; 1601 K Street NW, Washington, DC 20006.

Synopsis: The amendment removes Kawaski Kisen Kaisha (K Line), Nippon Yusen Kabushiki Kaisha (NYK) and Mitsui O.S.K. Lines (MOL) pursuant to their merger into ONE (Ocean Network Express). The amendment also removes Hamburg Süd, due to their acquisition by Maersk.

Dated: March 30, 2018.
Rachel Dickon,
Secretary.

[FR Doc. 2018-06885 Filed 4-3-18; 8:45 am]

BILLING CODE 6731-AA-P